DEPARTMENT OF ENERGY

Federal Energy Regulatory Commission

Combined Notice of Filings #1

July 18, 2007.

Take notice that the Commission received the following electric corporate filings:

Docket Numbers: EC07-70-001.

Applicants: Entergy Gulf States, Inc.; Calcasieu Power, LLC.

Description: Calcasieu Power, LLC and Entergy Gulf States, Inc submit their responses to FERC Staff's letter dated 6/7/07.

Filed Date: 06/28/2007.

Accession Number: 20070628-4005; 20070703-0121.

Comment Date: 5 p.m. Eastern Time on Wednesday, July 25, 2007.

Docket Numbers: EC07-113-000.

Applicants: AES Mid-West Wind, L.L.C.; AES Mid-West Holdings, L.L.C.; Lake Benton Power Partners LLC; Lake Benton Power Partners II, LLC.

Description: AES Mid-West Wind, LLC, et al, submit an application for authorization for disposition of jurisdictional facilities, request for confidential treatment and request for expedited action.

Filed Date: 07/12/2007.

Accession Number: 20070716-0189.

Comment Date: 5 p.m. Eastern Time on Thursday, August 02, 2007.

Docket Numbers: EC07-114-000.

Applicants: Pinnacle West Marketing & Trading Co, LLC; Morgan Stanley Capitol Group Inc.

Description: Pinnacle West Marketing & Trading Co, LLC and Morgan Stanley Capital Group Inc. submit their application for authorization to transfer jurisdictional facilities.

Filed Date: 07/13/2007.

Accession Number: 20070716-0176.

Comment Date: 5 p.m. Eastern Time on Friday, August 03, 2007.

Docket Numbers: EC07-116-000.

Applicants: KGen Acquisition I LLC; LSP Energy Limited Partnership; La Paloma Generating Company, LLC.

Description: Joint Application for KGen Acquisition I LLC et al for disposition of jurisdictional facilities.

Filed Date: 07/13/2007.

Accession Number: 20070717-0186.

Comment Date: 5 p.m. Eastern Time on Friday, August 03, 2007.

Take notice that the Commission received the following exempt wholesale generator filings:

Docket Numbers: EG07-67-000.

Applicants: Mansfield 2007 Trust A.

Description: Mansfield 2007 Trust A submits its Notice of Self-Certification of Exempt Wholesale Generator Status pursuant to Sections 366.1 and 366.7(a) of the Commission's Regulations.

Filed Date: 07/13/2007.

Accession Number: 20070717-0074.

Comment Date: 5 p.m. Eastern Time on Friday, August 03, 2007.

Docket Numbers: EG07-68-000.

Applicants: Mansfield 2007 Trust B.

Description: Mansfield 2007 Trust B submits its Notice of Self-Certification of Exempt Wholesale Generator Status pursuant to Sections 366.1 and 366.7 of the Commission's Regulations.

Filed Date: 07/13/2007.

Accession Number: 20070717-0073.

Comment Date: 5 p.m. Eastern Time on Friday, August 03, 2007.

Docket Numbers: EG07-69-000.

Applicants: Mansfield 2007 Trust C.

Description: Mansfield 2007 Trust C submits its Notice of Self-Certification of Exempt Wholesale Generator Status pursuant to Sections 366.1 and 366.7 of the Commission's Regulations.

Filed Date: 07/13/2007.

Accession Number: 20070717-0072.

Comment Date: 5 p.m. Eastern Time on Friday, August 03, 2007.

Docket Numbers: EG07-70-000.

Applicants: Mansfield 2007 Trust D.

Description: Mansfield 2007 Trust D submits its Notice of Self-Certification of Exempt Wholesale Generator Status pursuant to §§ 366.1 and 366.7 of the Commission's Regulations.

Filed Date: 07/13/2007.

Accession Number: 20070717-0071.

Comment Date: 5 p.m. Eastern Time on Friday, August 03, 2007.

Docket Numbers: EG07-71-000.

Applicants: Mansfield 2007 Trust E.

Description: Mansfield 2007 Trust E submits its Notice of Self-Certification of Exempt Wholesale Generator Status pursuant to Sections 366.1 and 366.7 of the Commission's Regulations.

Filed Date: 07/13/2007.

Accession Number: 20070717-0070.

Comment Date: 5 p.m. Eastern Time on Friday, August 03, 2007.

Docket Numbers: EG07-72-000.

Applicants: Mansfield 2007 Trust F.

Description: Mansfield 2007 Trust F submits its Notice of Self-Certification of Exempt Wholesale Generator Status pursuant to Sections 366.1 and 366.7 of the Commission's Regulations.

Filed Date: 07/13/2007.

Accession Number: 20070717-0069.

Comment Date: 5 p.m. Eastern Time on Friday, August 03, 2007.

Take notice that the Commission received the following electric rate filings:

Docket Numbers: ER99-2284-007; ER99-1773-007; ER99-1761-003; ER00-1026-014; ER01-1315-003; ER01-2401-009; ER98-2184-012; ER98-2186-013; ER00-33-009; ER03-1207-004; ER05-442-001; ER98-2185-012; ER99-1228-005; ER98-4222-009.

Applicants: AEE 2 LLC; AES Creative Resources, LP; AES Eastern Energy, LP; Indianapolis Power & Light Company; AES Ironwood, LLC; AES Red Oak, LLC; AES Huntington Beach, LLC; AES Redondo Beach, LLC; AES Placertia, Inc.; AES Delano, Inc.; Storm Lake Power Partners II LLC; Lake Benton Power Partners LLC.

Description: The AES Corporation et al. submit a notice of change in status in connection with the indirect acquisition by a subsidiary of AES of two windpower electric generation projects etc.

Filed Date: 07/13/2007.

Accession Number: 20070717-0182.

Comment Date: 5 p.m. Eastern Time on Friday, August 03, 2007.

Docket Numbers: ER99-2541-008; ER05-731-002; ER97-3556-016; ER99-221-011; ER99-220-013; ER97-3553-004; ER01-1764-005; ER04-582-006.

Applicants: Carthage Energy, LLC; Central Maine Power Company; Energetix, Inc.; New York State Electric & Gas Corporation; NYSEG Solutions, Inc.; Rochester Gas and Electric Corporation; PEI Power II, LLC, Hartford Steam Company.

Description: Carthage Energy LLC et al. submit a notification related to each of the Energy East Companies authority to sell electric energy and capacity at market based rates.

Filed Date: 07/13/2007.

Accession Number: 20070717-0181.

Comment Date: 5 p.m. Eastern Time on Friday, August 03, 2007.

Docket Numbers: ER04-878-001.

Applicants: Equus Power I, L.P.

Description: Equus Power I, LP submits its triennial updated market power analysis.

Filed Date: 07/16/2007.

Accession Number: 20070717-0076.

Comment Date: 5 p.m. Eastern Time on Monday, August 06, 2007.

Docket Numbers: ER07-529-002.

Applicants: Midwest Independent Transmission System.

Description: Midwest Independent Transmission System Operator, Inc submits an errata to a compliance filing to revise Module D of the Open Access Transmission and Energy Markets Tariff.

Filed Date: 07/11/2007.

Accession Number: 20070716-0162.

Comment Date: 5 p.m. Eastern Time on Wednesday, August 01, 2007.

Docket Numbers: ER07-1141-000.

Applicants: International Transmission Company; Michigan Electric Transmission Company, LLC; Midwest Independent Transmission System, LLC.

Description: International Transmission Co dba ITC Transmission and Michigan Electric Transmission Co, LLC et al. submit a request to modify the Open Access Transmission and Energy Markets Tariff to include Attachment FF etc.

Filed Date: 07/10/2007.

Accession Number: 20070711-0038.

Comment Date: 5 p.m. Eastern Time on Tuesday, July 31, 2007.

Docket Numbers: ER07-1143-000.

Applicants: Southern California Edison Company.

Description: Southern California Edison Company submits revised rate sheets to the Expedited Service and Interconnection Agreement with Wintec Energy LTD designated as Service Agreement 28.

Filed Date: 07/13/2007.

Accession Number: 20070716-0186.

Comment Date: 5 p.m. Eastern Time on Friday, August 03, 2007.

Docket Numbers: ER07-1145-000.

Applicants: Entergy Services, Inc.

Description: Entergy Services, Inc agent for Entergy Arkansas, Inc et al. submits revisions to the Interconnection and Operating Agreement with Mississippi Delta Energy Agency.

Filed Date: 07/11/2007.

Accession Number: 20070713-0057.

Comment Date: 5 p.m. Eastern Time on Wednesday, August 01, 2007.

Docket Numbers: ER07-1147-000.

Applicants: American Electric Power Service Corporation.

Description: American Electric Power Service Corporation agent for Indiana Michigan Power Company submits an executed Letter Agreement 2 w/Michigan Electric Transmission Company dated 7/2/07.

Filed Date: 07/13/2007.

Accession Number: 20070716-0185.

Comment Date: 5 p.m. Eastern Time on Friday, August 03, 2007.

Docket Numbers: ER07-1148-000.

Applicants: PurEnergy Caledonia, LLC.

Description: PurEnergy Caledonia LLC submits a notice of cancellation of its Rate Schedule 1 effective 9/11/07.

Filed Date: 07/13/2007.

Accession Number: 20070717-0183.

Comment Date: 5 p.m. Eastern Time on Friday, August 03, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E7-14413 Filed 7-25-07; 8:45 am]

BILLING CODE 6717-01-P